FARM CREDIT ADMINISTRATION

Farm Credit Administration Board; Special Meeting

AGENCY: Farm Credit Administration.

SUMMARY: Notice is hereby given, pursuant to the Government in the Sunshine Act (5 U.S.C. 552b(e)(3)), of the special meeting of the Farm Credit Administration Board (Board).

DATE AND TIME: The special meeting of the Board will be held at the offices of the Farm Cedit Administration in McLean, Virginia, on April 20, 2004, from 11 a.m. until such time as the Board concludes its business.

FOR FURTHER INFORMATION CONTACT: Jeanette C. Brinkley, Secretary to the Farm Credit Administration Board, (703) 883-4009, TTY (703) 883-4056.

ADDRESSES: Farm Credit Administration, 1501 Farm Credit Drive, McLean, Virginia 22102-5090.

SUPPLEMENTARY INFORMATION: This meeting of the Board will be closed to the public. The matter to be considered at the meeting is:

Closed Session*

* Session Closed-Exempt pursuant to 5 U.S.C 552b(c)(2).

• Consideration of resolution to address internal FCA staffing and organization during a specified period in Fiscal Year 2004.

Dated: April 19, 2004.
James M. Morris,
Acting Secretary, Farm Credit Administration Board.

[FR Doc. 04-9210 Filed 4-20-04; 8:51 am]

BILLING CODE 6705-01-P